DEPARTMENT OF TRANSPORTATION

Federal Aviation Administration

14 CFR Part 39

[Docket No. 2001-NM-211-AD; Amendment 39-12716; AD 2002-08-08]

RIN 2120-AA64

Airworthiness Directives; Bombardier Model CL-600-2B16 (CL-601-3R and CL-604) Series Airplanes

AGENCY: Federal Aviation Administration, DOT.

ACTION: Final rule; request for comments.

SUMMARY: This amendment adopts a new airworthiness directive (AD) that is applicable to certain Bombardier Model CL-600-2B16 (CL-601-3R and CL-604) series airplanes. This action requires a one-time inspection to detect chafing and other damage of the integrated drive generator (IDG) cables on both left and right engines between the service pylon connections to the IDG, corrective action if necessary, and installation of protective Teflon tubing and additional clamps on the IDG cable harnesses. This action is necessary to prevent electrical arcing between the IDG cable and the engine cowling, which could result in in-flight fire and/or loss of electrical power. This action is intended to address the identified unsafe condition.

DATES: Effective May 8, 2002.

The incorporation by reference of certain publications listed in the regulations is approved by the Director of the Federal Register as of May 8, 2002.

Comments for inclusion in the Rules Docket must be received on or before May 23, 2002.

ADDRESSES: Submit comments in triplicate to the Federal Aviation Administration (FAA), Transport Airplane Directorate, ANM-114, Attention: Rules Docket No. 2001-NM-211-AD, 1601 Lind Avenue, SW., Renton, Washington 98055-4056. Comments may be inspected at this location between 9a.m. and 3p.m., Monday through Friday, except Federal holidays. Comments may be submitted via fax to (425) 227-1232. Comments may also be sent via the Internet using the following address: 9-anm-iarcomment@faa.gov. Comments sent via fax or the Internet must contain “Docket No. 2001-NM-211-AD” in the subject line and need not be submitted in triplicate. Comments sent via the Internet as attached electronic files must be formatted in Microsoft Word 97 for Windows or ASCII text.

The service information referenced in this AD may be obtained from Bombardier, Inc., Canadair, Aerospace Group, P.O. Box 6087, Station Centre-ville, Montreal, Quebec H3C 3G9, Canada. This information may be examined at the FAA, Transport Airplane Directorate, 1601 Lind Avenue, SW., Renton, Washington; or at the FAA, New York Aircraft Certification Office, 10 Fifth Street, Third Floor, Valley Stream, New York; or at the Office of the Federal Register, 800 North Capitol Street, NW., suite 700, Washington, DC.

FOR FURTHER INFORMATION CONTACT: Luciano L. Castracane, Aerospace Engineer, Systems and Flight Test Branch, ANE-172, FAA, New York Aircraft Certification Office, 10 Fifth Street, Third Floor, Valley Stream, New York 11581; telephone (516) 256-7535; fax (516) 568-2716.

SUPPLEMENTARY INFORMATION: Transport Canada Civil Aviation (TCCA), which is the airworthiness authority for Canada, notified the FAA that an unsafe condition may exist on certain Bombardier Model CL-600-2B16 (CL-601-3R and CL-604) series airplanes. TCCA advises that it has received a report of electrical arcing between the integrated drive generator (IDG) cable and an engine cowl door on a Model CL-600-2B19 series airplane. The electrical arcing has been attributed to chafing of the IDG cable. The IDG cable installation in Model CL-600-2B16 series airplanes is similar to that in Model CL-600-2B19 series airplanes. Electrical arcing between the IDG cable and the engine cowling, if not corrected, could result in in-flight fire and/or loss of electrical power.

Related AD

The FAA issued AD 2001-06-07, amendment 39-12154 (66 FR 16114, March 23, 2001), as an immediately adopted rule, applicable to Bombardier Model CL-600-2B19 series airplanes. The unsafe condition, required actions, and inspection compliance times in AD 2001-06-07 are the same as those identified in this AD.

Explanation of Relevant Service Information

The manufacturer has issued Bombardier Alert Service Bulletins A601-0542 (for Model CL-601) and A604-73-002 (for Model CL-604), both dated January 12, 2001. These alert service bulletins describe procedures for a one-time inspection of the IDG cables on both left and right engines to detect chafing and other damage; repair or replacement of any damaged IDG cable if its inner core is not visible and not damaged; replacement of any damaged IDG cable with a new cable if the inner core is visible or damaged; and installation of protective Teflon tubing and additional clamps on the IDG cable harness. Accomplishment of the actions specified in the alert service bulletins is intended to adequately address the identified unsafe condition. TCCA classified these alert service bulletins as mandatory and issued Canadian airworthiness directive CF-2001-06, dated January 26, 2001, to ensure the continued airworthiness of these airplanes in Canada.

FAA's Conclusions

These airplane models are manufactured in Canada and are type certificated for operation in the United States under the provisions of section 21.29 of the Federal Aviation Regulations (14 CFR 21.29) and the applicable bilateral airworthiness agreement. Pursuant to this bilateral airworthiness agreement, TCCA has kept the FAA informed of the situation described above. The FAA has examined the findings of TCCA, reviewed all available information, and determined that AD action is necessary for products of this type design that are certificated for operation in the United States.

Explanation of Requirements of Rule

Since an unsafe condition has been identified that is likely to exist or develop on other airplanes of the same type design registered in the United States, this AD is being issued to prevent electrical arcing between the IDG cable and the engine cowling, which could result in in-flight fire and/or loss of electrical power. This AD requires a one-time inspection to detect chafing and other damage of the integrated drive generator (IDG) cables on both left and right engines between the service pylon connections to the IDG, corrective action if necessary, and installation of protective Teflon tubing and additional clamps on the IDG cable harnesses. The AD also requires that operators report results of positive inspection findings to Bombardier.

Determination of Rule's Effective Date

Since a situation exists that requires the immediate adoption of this regulation, it is found that notice and opportunity for prior public comment hereon are impracticable, and that good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Submit comments using the following format:

• Organize comments issue-by-issue. For example, discuss a request to change the compliance time and a request to change the service bulletin reference as two separate issues.

• For each issue, state what specific change to the AD is being requested.

• Include justification (e.g., reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket 2001-NM-211-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2002-08-08 Bombardier, Inc. (Formerly Canadair): Amendment 39-12716. Docket 2001-NM-211-AD.

Applicability: Model CL-600-2B16 (CL-601-3R) series airplanes, serial numbers 5135 through 5194 inclusive; and Model CL-600-2B16 (CL-604) series airplanes, serial numbers 5301 through 5481 inclusive; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance: Required as indicated, unless accomplished previously.

To prevent electrical arcing between the integrated drive generator (IDG) cable and the engine cowling, which could result in in-flight fire and/or loss of electrical power, accomplish the following:

Inspection

(a) Within 50 flight hours after the effective date of this AD, perform a detailed inspection of the IDG cables on both left and right engines to detect chafing and other damage between the service pylons to the IDG, in accordance with Bombardier Alert Service Bulletin A601-0542 (for Model CL-600-2B16 (CL-601) series airplanes) or A604-73-002 (for Model CL-600-2B16 (CL-604) series airplanes), both dated January 12, 2001; as applicable. If any chafing or other damage is found: Prior to further flight, repair the damaged cable or replace it with a new cable, as applicable, in accordance with the applicable alert service bulletin.

Note 2: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Installation of Teflon Tubing and Clamps

(b) Within 400 flight hours after the effective date of this AD, install protective Teflon tubing and additional clamps on the IDG cable harnesses, in accordance with Bombardier Alert Service Bulletin A601-0542 (for Model CL-601) or A604-73-002 (for Model CL-604), both dated January 12, 2001; as applicable.

Reporting

(c) If any chafing or other damage is found during the inspection required by paragraph (a) of this AD: Submit a report of the findings to Bombardier, Inc., Canadair, Aerospace Group, P.O. Box 6087, Station Centreville, Montreal, Quebec H3C 3G9, Canada. The report must include the inspection results, a description of any discrepancies found, the airplane serial number, and the number of landings and flight hours on the airplane. Information collection requirements contained in this regulation have been approved by the Office of Management and Budget (OMB) under the provisions of the Paperwork Reduction Act of 1980 (44 U.S.C. 3501 et seq.) and have been assigned OMB Control Number 2120-0056.

(1) For airplanes on which the inspection is accomplished after the effective date of this AD: Submit the report within 30 days after performing the inspection required by paragraph (a) of this AD.

(2) For airplanes on which the inspection has been accomplished prior to the effective date of this AD: Submit the report within 30 days after the effective date of this AD.

Alternative Methods of Compliance

(d) An alternative method of compliance or adjustment of the compliance time that provides an acceptable level of safety may be used if approved by the Manager, New York Aircraft Certification Office (ACO), FAA. Operators shall submit their requests through an appropriate FAA Principal Maintenance Inspector, who may add comments and then send it to the Manager, New York ACO.

Note 3: Information concerning the existence of approved alternative methods of compliance with this AD, if any, may be obtained from the New York ACO.

Special Flight Permits

(e) Special flight permits may be issued in accordance with sections 21.197 and 21.199 of the Federal Aviation Regulations (14 CFR 21.197 and 21.199) to operate the airplane to a location where the requirements of this AD can be accomplished.

Incorporation by Reference

(f) Except as required by paragraph (c) of this AD: The actions must be done in accordance with Bombardier Alert Service Bulletin A601-0542, dated January 12, 2001; or Bombardier Alert Service Bulletin A604-73-002, dated January 12, 2001; as applicable. (The manufacturer's name is listed only on the first page on both of these documents; no other page contains this information.) This incorporation by reference was approved by the Director of the Federal Register in accordance with 5 U.S.C. 552(a) and 1 CFR part 51. Copies may be obtained from Bombardier, Inc., Canadair, Aerospace Group, P.O. Box 6087, Station Centre-ville, Montreal, Quebec H3C 3G9, Canada. Copies may be inspected at the FAA, Transport Airplane Directorate, 1601 Lind Avenue, SW., Renton, Washington; or at the FAA, New York Aircraft Certification Office, 10 Fifth Street, Third Floor, Valley Stream, New York; or at the Office of the Federal Register, 800 North Capitol Street, NW., suite 700, Washington, DC.

Note 4: The subject of this AD is addressed in Canadian airworthiness directive CF-2001-06, dated January 26, 2001.

Effective Date

(g) This amendment becomes effective on May 8, 2002.

Issued in Renton, Washington, on April 12, 2002.
Vi L. Lipski,
Manager, Transport Airplane Directorate, Aircraft Certification Service.

[FR Doc. 02-9572 Filed 4-22-02; 8:45 am]

BILLING CODE 4910-13-U